DEPARTMENT OF EDUCATION

National Institute on Disability and Rehabilitation Research (NIDRR)—Disability and Rehabilitation Research Projects and Centers Program—Rehabilitation Research and Training Centers (RRTCs)—Individual-Level Characteristics Related to Employment Among Individuals With Disabilities

Catalog of Federal Domestic Assistance (CFDA) Number: 84.133B-1.

AGENCY: Office of Special Education and Rehabilitative Services, Department of Education.

ACTION: Notice of final priority.

SUMMARY: The Assistant Secretary for Special Education and Rehabilitative Services announces a priority for the Disability and Rehabilitation Research Projects and Centers Program administered by NIDRR. Specifically, this notice announces a priority for an RRTC on Individual-Level Characteristics Related to Employment Among Individuals with Disabilities. The Assistant Secretary may use this priority for competitions in fiscal year (FY) 2010 and later years. We take this action to focus research attention on areas of national need. We intend for this priority to improve rehabilitation services and outcomes for individuals with disabilities.

DATES: Effective Date: This priority is effective May 24, 2010.

FOR FURTHER INFORMATION CONTACT: Donna Nangle, U.S. Department of Education, 400 Maryland Avenue, SW., room 5142, Potomac Center Plaza (PCP), Washington, DC 20202-2700. Telephone: (202) 245-7462 or by e-mail: donna.nangle@ed.gov.

If you use a telecommunications device for the deaf (TDD), call the Federal Relay Service (FRS), toll free, at 1-800-877-8339.

SUPPLEMENTARY INFORMATION: This notice of final priority is in concert with NIDRR's Final Long-Range Plan for FY 2005-2009 (Plan). The Plan, which was published in the Federal Register on February 15, 2006 (71 FR 8165), can be accessed on the Internet at the following site: http://www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Purpose of Program: The purpose of the Disability and Rehabilitation Research Projects and Centers Program is to plan and conduct research, demonstration projects, training, and related activities, including international activities, to develop methods, procedures, and rehabilitation technology, that maximize the full inclusion and integration into society, employment, independent living, family support, and economic and social self-sufficiency of individuals with disabilities, especially individuals with the most severe disabilities, and to improve the effectiveness of services authorized under the Rehabilitation Act of 1973, as amended.

RRTC Program

The purpose of the RRTC program is to improve the effectiveness of services authorized under the Rehabilitation Act of 1973, as amended, through advanced research, training, technical assistance, and dissemination activities in general problem areas, as specified by NIDRR. Such activities are designed to benefit rehabilitation service providers, individuals with disabilities, and the family members or other authorized representatives of individuals with disabilities. In addition, NIDRR intends to require all RRTC applicants to meet the requirements of the General Rehabilitation Research and Training Centers (RRTC) Requirements priority that it published in a notice of final priorities in the Federal Register on February 1, 2008 (73 FR 6132). Additional information on the RRTC program can be found at: http://www.ed.gov/rschstat/research/pubs/res-program.html#RRTC.

Statutory and Regulatory Requirements of RRTCs

RRTCs must—

• Carry out coordinated advanced programs of rehabilitation research;

• Provide training, including graduate, pre-service, and in-service training, to help rehabilitation personnel more effectively provide rehabilitation services to individuals with disabilities;

• Provide technical assistance to individuals with disabilities, their representatives, providers, and other interested parties;

• Disseminate informational materials to individuals with disabilities, their representatives, providers, and other interested parties; and

• Serve as centers of national excellence in rehabilitation research for individuals with disabilities, their representatives, providers, and other interested parties.

Applicants for RRTC grants must also demonstrate in their applications how they will address, in whole or in part, the needs of individuals with disabilities from minority backgrounds.

Program Authority: 29 U.S.C. 762(g) and 764(b)(2).

Applicable Program Regulations: 34 CFR part 350.

We published a notice of proposed priority (NPP) for NIDRR's Disability and Rehabilitation Research Projects and Centers Program in the Federal Register on December 18, 2009 (74 FR 67186). The NPP included a background statement that described our rationale for the priority proposed in that notice.

There are no differences between the NPP and this notice of final priority (NFP) as discussed in the following section.

Public Comment: In response to our invitation in the NPP, three parties submitted comments on the proposed priority. An analysis of the comments and of any changes in the priority since publication of the NPP follows.

Generally, we do not address technical and other minor changes, or suggested changes the law does not authorize us to make under the applicable statutory authority. In addition, we do not address general comments that raised concerns not directly related to the proposed priority.

Analysis of Comments and Changes

Comment: One commenter recommended that NIDRR award grants to applicants who propose research that will contribute to the improvement of rehabilitation programs for underserved populations. This commenter also suggested that NIDRR select applicants who clearly identify robust methods for research and practice.

Discussion: NIDRR agrees that the research funded under this priority should contribute to improved employment practices for underserved populations. We have structured the requirements of this priority with the aim of identifying individuals with disabilities who are at risk for poor employment outcomes and generating new knowledge that can be used to improve their outcomes. Some individuals with disabilities who are at risk for poor employment outcomes will undoubtedly have been individuals who were underserved. Activities under paragraph (b) of the priority are intended to generate new knowledge about the populations of individuals with disabilities who have the poorest employment outcomes. Activities under paragraph (c) of the priority, in particular, are intended to generate new knowledge about the barriers to, and facilitators of, employment experienced by these subpopulations, and activities under paragraph (d) are intended to promote the incorporation of these research findings into practice or policy.

NIDRR also agrees that robust methods for research in this area are critical. The peer review process will determine the merits of each proposal and will take into consideration the applicant's proposed research methods.

Changes: None.

Comment: One commenter stated that the priority should include a focus on best practices for assisting individuals with disabilities to transition from school to employment.

Discussion: NIDRR agrees that identifying effective practices to improve the transition from school to employment for individuals with disabilities is an important area for research. However, this priority was developed to generate broad knowledge about employment outcomes among a variety of subpopulations of individuals with disabilities. It is not the purpose of this priority to focus on the transition from school to employment, in particular, or on transition-age youth with disabilities. That said, research conducted under paragraphs (a) and (b) of the priority may demonstrate that transition-age youth have poor employment outcomes relative to other subpopulations and therefore require greater research attention. Thus, while NIDRR declines to require all applicants to focus on transition-age youth with disabilities, it is possible for an applicant's proposal to include such a focus. The peer review process will determine the merits of each proposal.

Changes: None.

Comment: One commenter recommended that the priority focus on the interactions between the person and the environment that lead to employment outcomes and that the title of the priority be changed to reflect this focus.

Discussion: Paragraph (c) of the priority requires the RRTC to investigate barriers to, and facilitators of, employment for subpopulations of individuals who are at risk for poor employment outcomes. Barriers to, and facilitators of, employment are likely to be found at both the individual level and in the environment. Paragraph (c) of the priority provides examples of environmental-level barriers to, and facilitators of, employment, such as availability of transportation, social support, and employer practices. Nothing in this priority precludes applicants from proposing methods for gathering and analyzing data in ways that emphasize how experiences of environmental factors at the individual level influence employment opportunities and outcomes. However, NIDRR's focus in this priority is on individual-level characteristics related to employment of individuals with disabilities, which is a broader focus than simply examining the interactions between the person and the environment. Therefore, NIDRR declines to change the title as suggested by the commenter.

Changes: None.

Comment: One commenter suggested that the priority include a focus on the effects of community-level factors that affect employment outcomes for individuals with disabilities, including research on community-level interventions.

Discussion: The priority requires the RRTC to collect and analyze individual-level data about barriers to, and facilitators of, employment for individuals at risk for poor employment outcomes. Nothing in the priority precludes collection of data about community-level barriers to, or facilitators of, employment experienced by individuals with disabilities.

Changes: None.

Final Priority

The Assistant Secretary for Special Education and Rehabilitative Services announces a priority for a Rehabilitation Research and Training Center (RRTC) on Individual-Level Characteristics Related to Employment Among Individuals with Disabilities. This RRTC must identify subpopulations of individuals with disabilities who are at risk of poor employment outcomes, and document the barriers to, and facilitators of, employment that these subgroups experience. This new knowledge is intended to serve as a foundation for future interventions research that will target those who are most at risk of poor employment outcomes. The RRTC must be designed to contribute to the following outcomes:

(a) A synthesis of available knowledge about employment disparities among subpopulations of individuals with disabilities. The RRTC must contribute to this outcome by conducting a review and synthesis of existing research on individual-level characteristics related to successful and poor employment outcomes among individuals with disabilities. Such individual-level characteristics may include, but are not limited to, the following: Disabling condition, severity of disability, age, gender, race, ethnicity, socioeconomic status, education level, and urban/rural status. Successful and poor employment outcomes may be measured by the following indicators: An individual's employment status (e.g., employed, unemployed, underemployed), income, and job retention or promotion. The RRTC must complete this activity by the end of the first year of the grant.

(b) New knowledge about the individual-level characteristics that are most strongly associated with employment-related outcome variables among individuals with disabilities. The RRTC must contribute to this outcome by conducting research on the extent to which employment of individuals with disabilities is related to individual-level characteristics. This research must include, but is not limited to, multivariate analyses of existing national datasets. Analyses of existing data must examine possible variations of employment, including full- or part-time work, self-employment, and industry sector. The RRTC must complete this activity by the end of the second year of the grant.

(c) New knowledge of the employment experiences of individuals who are at risk of poor employment outcomes. The RRTC must contribute to this outcome by collecting and analyzing information from members of subpopulations identified under paragraphs (a) and (b) of this priority. The RRTC must collect individual-level data about the barriers to, and facilitators of, employment that members of these subpopulations have experienced (e.g., the availability of transportation to and from work, social support, workplace accommodations, and employer practices).

(d) Increased incorporation of disability and employment research findings into practice or policy. The RRTC must contribute to this outcome by:

(1) Collaborating with stakeholder groups to develop, evaluate, or implement strategies to promote utilization of the RRTC's research findings.

(2) Conducting training and dissemination activities to facilitate the utilization of the RRTC's research findings by individuals with disabilities, employers, policymakers, and State vocational rehabilitation agencies.

In addition, this RRTC must collaborate with relevant Rehabilitation Services Administration grantees, such as the 10 regional Technical Assistance and Continuing Education projects.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Order 12866: This notice has been reviewed in accordance with Executive Order 12866. Under the terms of the order, we have assessed the potential costs and benefits of this final regulatory action.

The potential costs associated with this final regulatory action are those resulting from statutory requirements and those we have determined as necessary for administering this program effectively and efficiently.

In assessing the potential costs and benefits—both quantitative and qualitative—of this final regulatory action, we have determined that the benefits of the final priority justify the costs.

Discussion of Costs and Benefits

The benefits of the Disability and Rehabilitation Research Projects and Centers Programs have been well established over the years in that similar projects have been completed successfully. This final priority will generate new knowledge through research and development.

Another benefit of this final priority is that the establishment of a new RRTC will improve the lives of individuals with disabilities. The new RRTC will disseminate and promote the use of new information that will improve the options for individuals with disabilities to obtain, retain, and advance in employment.

Accessible Format: Individuals with disabilities can obtain this document in an accessible format (e.g., braille, large print, audiotape, or computer diskette) by contacting the Grants and Contracts Services Team, U.S. Department of Education, 400 Maryland Avenue, SW., room 5075, PCP, Washington, DC 20202-2550. Telephone: (202) 245-7363. If you use a TDD, call the FRS, toll-free, at 1-800-877-8339.

Electronic Access to this Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 20, 2010.
Alexa Posny,
Assistant Secretary for Special Education and Rehabilitative Services.

[FR Doc. 2010-9506 Filed 4-22-10; 8:45 am]

BILLING CODE 4000-01-P